DEPARTMENT OF AGRICULTURE

Forest Service

Notice of Proposed Fee Change; Federal Lands Recreation Enhancement Act (Title VIII, Pub. L. 108-447)

AGENCY: USDA Forest Service.

ACTION: Notice of proposed fee change.

SUMMARY: The Begich, Boggs Visitor Center, located within the Chugach National Forest in Alaska will change the fee it charges after consideration of public comments. New fees are to begin on Memorial Day Weekend 2008. The increased fee that it collects will help to make up the shortfall in operations and maintenance costs that it is experiencing due to declining Federal budgets and a change in fee authority. The expanded fee program will allow the visitor center to reopen its doors to the public on weekends from October through May, and to offer interpretive presentations to the public during the summer months, as well as upkeep the center and its exhibits and audio-visual programs and equipment. We are also planning to charge facility use fees, as outlined in our “Amended Business and Communication Plan 2007,” for special use of the visitor center. As a result we are also seeking input from the public on the fee structure for special facility use during the same comment period. The special facility use fees will be a part of the amended Recreation Fee structure for the Begich, Boggs Visitor Center and help us to meet our operation and maintenance needs. Currently the only fee charged at the center is a fee for the movie “Voices From the Ice.” The fee is currently $1 per person (age 16 and older). Starting on Memorial Day Weekend 2008, we propose to charge a higher fee to all visitors (age 16 and older). The expanded fee will allow these visitors to see the movie, visit the exhibits and participate in any of our interpretive walks and presentations offered. Those people who do not pay for this expanded standard amenity fee will be able to use the restrooms, shop in the Alaska Natural History Association bookstore or ask questions of our staff at the front desk.

DATES: Please submit comments on or before January 2, 2008.

ADDRESSES: Lezlie Murray, Glacier Ranger District, Chugach National Forest, P.O. Box 129, Girdwood, AK 99587.

FOR FURTHER INFORMATION CONTACT: Lezlie Murray, Visitor Center Director, Begich, Boggs Visitor Center, (907) 754-2316, llmurray01@fs.fed.us. http://www.fs.fed.us/r10/chugach/chugach_pages/bbvc.html.

SUPPLEMENTARY INFORMATION: The Federal Recreation Lands Enhancement Act (Title VII, Pub. L. 108-447) directed the Secretary of Agriculture to publish a six month advance notice in the Federal Register whenever a change in an established recreation fee is being considered. The Recreation Fee Program, authorized in Public Law 104-134, is designed to fund federal recreation facilities and services and visitor center facilities and services through user fees collected on the site. The Begich, Boggs Visitor Center has charged a fee for the movie through the Fee Demo Program beginning in 1999, and then through the Federal Recreation Lands Enhancement Act when the Fee Program was made permanent beginning in 2005.

Dated: October 26, 2007.
Joe L. Meade,
Forest Supervisor.

[FR Doc. 07-5431 Filed 10-31-07; 8:45 am]

BILLING CODE 3410-11-M